DEPARTMENT OF THE INTERIOR

Geological Survey

[GX18DK00GUF0200]

Notice of Public Meeting for the Advisory Committee on Water Information

AGENCY: United States Geological Survey, Interior.

ACTION: Notice of a public meeting.

SUMMARY: In accordance with the Federal Advisory Committee Act of 1972, notice is hereby given that the U.S. Department of the Interior, United States Geological Survey (USGS), the Advisory Committee on Water Information (ACWI) will meet as indicated below.

DATES: The meeting will take place from 8:30 a.m. until 4:30 p.m. on Wednesday, January 17, 2018, and from 8:30 a.m. until 4:30 p.m. on Thursday, January 18, 2018 (times are Eastern Standard Time).

ADDRESSES: The meeting will be held in the auditorium of the U.S. Geological Survey National Center, located at 12201 Sunrise Valley Drive, Reston, VA 20192.

FOR FURTHER INFORMATION CONTACT: Ms. Wendy E. Norton, ACWI Executive Secretary and Chief, Water Information Coordination Program, U.S. Geological Survey, 12201 Sunrise Valley Drive, MS 417, Reston, VA 20192; email wenorton@usgs.gov.

SUPPLEMENTARY INFORMATION: The ACWI operates in conformance with the Office of Management and Budget Memorandum M-92-01 and the Federal Advisory Committee Act. The purpose of the ACWI is to provide a forum for water information users and professionals to advise the Federal Government on activities and plans that may improve the effectiveness of meeting the Nation's water information needs. ACWI members help to foster communications between the Federal and non-Federal sectors on sharing water information. For more information on the ACWI, its membership, subgroups, meetings and activities, please see the website at: https://acwi.gov.

This meeting is to discuss broad policy-related topics relating to national water initiatives, and the development and dissemination of water information, through reports from ACWI subgroups. The agenda will include updates from ACWI's various subcommittees, including activities related to continuing implementation of the Open Water Data Initiative and a report on the newly released Bulletin 17C, Guidelines for Determining Flood Flow Frequency.

This meeting is open to the public. Half an hour will be set aside for public comment. Persons wishing to make a brief presentation (up to 5 minutes) are asked to provide a written request with a description of the general subject to Ms. Norton at the above address no later than January 12, 2018. Any member of the public may submit written information and (or) comments to Ms. Norton for distribution at the ACWI meeting. Before including your address, phone number, email address, or other personal identifying information in your comments, please be aware that your entire comment—including your personal identifying information—may be made publicly available at any time. While you can ask us in your comment to withhold your personal identifying information from public review, we cannot guarantee that we will be able to do so.

Authority: 5 U.S.C. APP 2.

Wendy E. Norton,
Chief, Water Information Coordination Program.

[FR Doc. 2017-28045 Filed 12-27-17; 8:45 am]

BILLING CODE 4338-11-P